ADVISORY COUNCIL ON HISTORIC PRESERVATION

Draft Program Comment Regarding the Management of Wherry and Capehart Era Army Family Housing

AGENCY: Advisory Council on Historic Preservation.

ACTION: Notice of intent to issue program comment on Capehart and Wherry Era army family housing.

SUMMARY: The Army is formulating its plan on how to manage its inventory of Capehart and Wherry Era housing. In order to better meet its Federal historic preservation responsibilities in managing these properties, the Army has requested the Advisory Council on Historic Preservation to comment on the overall management of such properties, as opposed to submitting each individual undertaking under such management to a separate review. The Council has drafted such a comment. It now seeks public input on that draft.

DATES: Submit comments on or before April 19, 2002.

ADDRESSES: Address all comments concerning this proposed program comment to Dave Berwick, Army Affairs Coordinator, Office of Federal Agency Programs, Advisory Council on Historic Preservation, 1100 Pennsylvania Avenue, NW., Suite 809, Washington, DC 20004. Fax (202) 606-8672. You may submit electronic comments to: dberwick@achp. gov.

FOR FURTHER INFORMATION CONTACT: Dave Berwick, (202) 606-8505.

SUPPLEMENTARY INFORMATION: Section 106 of the National Historic Preservation Act requires Federal agencies to consider the effects of their undertakings on historic properties and provide the Advisory Council on Historic Preservation (“Council”) a reasonable opportunity to comment with regard to such undertakings. The Council has issued the regulations that set forth the process through which Federal Agencies comply with these duties. Those regulations are codified under 36 CFR part 800 (“Section 106 regulations”).

Under § 800.14(e) of those regulations, agencies can request the Council to provide a “Program Comment” on a particular category of undertakings in lieu of conducting individual reviews of each individual undertaking under such category, as set forth in 36 CFR 800.4 through 800.6. An agency can then meet its Section 106 responsibilities for those undertakings by taking into account the Council's Program Comment and by following the steps set forth in those comments.

The Army has requested such a Program Comment to cover management of its Capehart and Wherry Era housing. A copy of the draft Program Comment can be found at the end of this notice. Once the public input resulting from this notice is considered, the Council will decide whether to issue a final Program Comment to the Army.

Background on the Capehart and Wherry Army Family Housing Program

Military housing constructed during the 1949-1962 period is commonly called Capehart and Wherry Era housing after the two United States Senators who sponsored national military housing construction programs to address inadequate and substandard military family housing at military installations across the nation. Senator Wherry's program, implemented 1949-1955, allowed developers to construct, own, and maintain military housing on Department of Defense (“DoD”) (in this case Army) lands with FHA-insured mortgages. DoD guaranteed occupancy, agreed to long-term leases, and discounted utility rates in exchange for the developer's agreement to established set rental rates and preferential leases for military families. Senator Capehart's program, implemented 1955-1962, called for DoD to purchase the new housing constructed by developers, and to purchase the developer-owned housing previously constructed under the Wherry housing program. DoD remained responsible for operation, maintenance and repair of this housing. Approximately 19,036 buildings constructed during the Capehart-Wherry Era remain in the Army's inventory of family housing.

Approximately 52% of the Army's entire military family housing stock remain from those built during the Capehart and Wherry military family housing construction program between 1949 and 1962. Structures associated with this family housing include detached garages, carports and storage buildings, and the landscape features (including but not limited to the overall design and layout of the Capehart and Wherry Era communities, including road patterns, plantings and landscaping, open spaces, playgrounds, parking areas, signage, site furnishings, views into and out of the community, lighting, sidewalks, setbacks and all other associated cultural landscape features). A small percentage of buildings and structures constructed during this time period were not constructed with funds provided through the Capehart and Wherry funding programs, but are similar in all other respects, and are therefore included as part of this action.

Capehart and Wherry Era buildings were largely constructed from off-the-shelf commercially available plans and specifications and range from single-family detached houses, to multi-unit row houses, duplexes, four-plexes, and multi-story apartment buildings. Brick, frame, cement block, and stucco were typical building materials. While architectural styles were largely consistent, there was some variation including elements of International style and Colonial Revival style. Developers, consistent with principles guiding civilian neighborhood design at the onset of the “baby boom,” paid attention to comprehensive neighborhood planning and design. Overall, the Army's Capehart and Wherry Era housing, associated structures, and landscape features reflect the ubiquitous, nation-wide suburban subdivision construction trends of this period.

The Army anticipates that all of it's Capehart-Wherry Era family housing, associated structures and landscape features will be subject to the following categories of undertakings: Maintenance and repair, rehabilitation, renovation, layaway and mothballing, demolition and replacement, and transfer, sale or lease out of government control. The Army is requesting that the Council provide a Program Comment on these categories of undertakings for Army Capehart Wherry Era family housing, associated structures and landscape features.

The Army is requesting a Program Comment as an Army-wide Section 106 compliance action related to management of Capehart and Wherry era housing, associated structures and landscape features. This programmatic approach will facilitate management actions for privatization and transfer out of federal agency ownership, substantial alteration through renovation, and demolition and replacement of Capehart and Wherry Era housing, associated structures and landscape features that are listed or eligible for listing on the National Register of Historic Places. Therefore, there is the potential for adverse effects to historic properties.

The following is the full text of the draft Program Comment:

Program Comment for Capehart and Wherry Era Army Family Housing

I. Introduction

This Program Comment provides the Department of the Army (Army) with an alternate way to comply with its responsibilities under Section 106 of the National Historic Preservation Act with regard to the following actions in the management of the Capehart and Wherry Era Army family housing: privatization and transfer out of federal agency ownership, substantial alteration through renovation, and demolition and replacement of Capehart and Wherry Era housing, associated structures and landscape features that may be eligible for listing on the National Register of Historic Places.

II. Treatment of Capehart and Wherry Properties

a. Eligibility

The Army has conducted a historic context of its Capehart and Wherry properties. It is documented in a report entitled For Want of a Home: A Historic Context for Wherry and Capehart Military Family Housing. On May 22, 2001, the Army sponsored a symposium on Capehart and Wherry Era housing management as it relates to historic preservation. The symposium was attended by preservation experts, including the National Trust for Historic Preservation (Trust), the National Conference of State Historic Preservation Officers (NCSHPO), the Advisory Council on Historic Preservation, and nationally recognized experts in the field of historic preservation from academia and industry. Symposium participants recommended a programmatic approach to complying with Section 106, which is presented in the treatment section outlined below. The Army considers its inventory of Capehart and Wherry properties, including any associated structures and landscape features, to be eligible for the National Register of Historic Places for the purposes of Section 106 compliance.

b. Treatment

The Army has requested a Program Comment as an Army-wide Section 106 compliance action related to management of Capehart and Wherry Era housing, associated structures and landscape features. This programmatic approach will facilitate management actions for privatization and transfer out of Federal agency ownership, substantial alteration through renovation, and demolition and replacement of Capehart and Wherry Era housing, associated structures and landscape features. Such actions present a potential for adverse effects to historic properties.

Based on recommendations coming out of the symposium and follow-up meetings between the Council, the Trust and NCSHPO, the Army has proposed the following three step approach to the treatment of its Capehart and Wherry properties:

(i) The Army will expand and revise the existing historic context, For Want of a Home: A Historic Context for Wherry and Capehart Military Family Housing. Consistent with issues identified during the symposium on Capehart and Wherry Housing held by the Army in May 2001, and public review, the historic context will be expanded to address a number of important issues. It will explore changing Army family demographics following the end of the World War II and their impact on housing needs and responsive programs. The context will also focus on post-World War II suburbanization, housing trends and affordable housing programs in the civilian sector. In addition, the context will be expanded to consider the importance of historically important builders, developers and architects that may have been associated with design and construction of Capehart and Wherry Era housing developments at specific Army installations. In addition to addressing the housing units, the context will discuss associated structures, and landscape features. Finally, the context will describe the inventory of Capehart and Wherry Era Housing, providing information on the various types of buildings and architectural styles and the quantity of each.

(ii) The Army will develop Capehart and Wherry Era Neighborhood Design Guidelines. The scoping process identified landscape features as an important attribute of Capehart and Wherry Era land-use planning and development. Neighborhood Design Guidelines would address this issue and be distributed Army-wide. In this manner, Capehart and Wherry Era landscape features would be considered as the Army manages military family housing.

(iii) The Army will document Capehart and Wherry Era housing, associated structures and landscape features through preparation of a video. The video will document representative structural types and landscape features at three installations, and explain the relationship of this housing construction program to topics researched for the expanded historic context. The video will be distributed for educational purposes, and archived by the Army.

The Council believes that this three step approach will ensure that the Army takes into account the effects of management of its Capehart and Wherry Era housing.

III. Applicability

This Program Comment does not apply to the following properties that are listed, or eligible for listing, on the National Register of Historic Places: (a) Archeological sites, (b) properties of traditional religious and cultural significance to federally recognized Indian tribes or Native Hawaiian organizations, or (c) historic properties other than Army Capehart and Wherry Era housing, associated structures and landscape features.

IV. Effect of Program Comment

By following this comment and outlined three step approach, the Army will have met its responsibilities for compliance under Section 106 regarding management of its Capehart and Wherry Era housing. Accordingly, installations will not have to follow the case-by-case Section 106 review process for each individual management action.

The Army may carry out management actions prior to the completion of all of the three treatment steps outlined above, so long as such management actions do not preclude the eventual successful completion of those three steps.

If the Council determines that the consideration of Capehart and Wherry properties is not being carried out in a manner consistent with this Program Comment, the Council may withdraw this comment. Following such withdrawal, the Army would comply with the requirements of 36 CFR §§ 800.3 through 800.7 for each individual management action.

Authority: 36 CFR 800.14(e).

Dated: March 15, 2002.
John M. Fowler,
Executive Director.

[FR Doc. 02-6706 Filed 3-19-02; 8:45 am]

BILLING CODE 4310-10-M